DEPARTMENT OF AGRICULTURE

Submission for OMB Review; Comment Request

August 10, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Export Certification, Accreditation of Non-Government Facilities.

OMB Control Number: 0579-0130.

Summary of Collection: The Department of Agriculture (USDA), Animal and Plant Health Inspection Service (APHIS) is responsible for preventing plant diseases or insect pests from entering the United States, as well as, the spread of pests not widely distributed in the United States, and eradicating those imported when eradication is feasible. The Plant Protection Act (7 U.S.C. 7701 et seq.), authorizes the Department to carry out this mission. In addition to its mission, APHIS provides export certification services to ensure other countries that the plants and plant products they are receiving from the United States are free of plant diseases and insect pests.

Need and Use of the Information: APHIS will collect information for applications submitted by operator/owner of a non-government facility seeking accreditation to conduct laboratory testing or phytosanitary inspection. The application should contain the legal name and full address of the facility, the name, address, telephone and fax numbers of the facility's operator, a description of the facility, and a description of the specific laboratory testing or phytosanitary inspection services for which the facility is seeking accreditation. If these activities are not conducted properly, APHIS export certification program would be compromised, causing a disruption in plant and plant product exports that could prove financially damaging to U.S. exporters.

Description of Respondents: Business or other for profit; State, Local and Tribal Government.

Number of Respondents: 15.

Frequency of Responses: Reporting: On occasion.

Total Burden Hours: 300.

Animal and Plant Health Inspection Service

Title: Importation of Tomatoes from Spain, Chile, France, Morocco, and Western Sahara.

OMB Control Number: 0579-0131.

Summary of Collection: Under the Plant Protection Act (PPA) (7 U.S.C. 7701—et seq.), the Secretary of Agriculture is authorized to carry out operations or measure to detect, eradicate, suppress, control, prevent, or retard the spread of plant pests new to the United States or not known to be widely distributed throughout the United States. Regulations authorized by the PPA concerning the importation of fruits and vegetables into the United States from certain parts of the word are contained in “Subpart—Fruits and Vegetables” (7 CFR 319.56-1 through 319.56-50). These regulations allow tomatoes from Spain, Chile, France, Morocco, and Western Sahara to be imported into the United States (subject to certain conditions).

Need and Use of the Information: The Animal and Plant Health Inspection Service (APHIS) will collect information using the phytosanitary certificate certifying that the tomatoes were grown in registered greenhouses in a specified area of the exporting country. APHIS uses the information on this certificate to determine the pest condition of the shipment at the time of inspection in the foreign country. Without this information, all shipments would need to be inspected very thoroughly, thereby requiring considerably more time. This would slow the clearance of international shipments.

Description of Respondents: Business or other for profit; Federal Government.

Number of Respondents: 34.

Frequency of Responses: Recordkeeping; Reporting: On occasion.

Total Burden Hours: 1,704.

Animal and Plant Health Inspection Service

Title: Karnal Bunt; Revision of Regulations for Importing Wheat.

OMB Control Number: 0579-0240.

Summary of Collection: Under the Plant Protection Act (7 U.S.C. 7701-7772), the Secretary of Agriculture is authorized to prohibit or restrict the importation, entry, or movement of plants and plant pests to prevent the introduction of plant pests into the United States or their dissemination within the United States. The Animal and Plant Health Inspection Service (APHIS), domestic Karnal bunt regulations are contained in Subpart-Karnal Bunt (7 CFR 301.89-1 through 301.89-16). Karnal bunt is a fungal disease of wheat. Karnal bunt is caused by the smut fungus Tilletia indica (Mitra) Mundkur and is spread by spores, primarily through the movement of infected seed.

Need and Use of the Information: In order for APHIS to verify that the articles are being imported in compliance with the regulations, the articles would have to be accompanied by a phytosanitary certificate issued by the national plant protection organization of the region of origin. The certificate must include a declaration stating that the regulated articles originated in areas where Karnal bunt is not known to occur, as attested to either by survey resulting or by testing for bunted karnals or spores.

Description of Respondents: Business or other for-profit; Federal Government.

Number of Respondents: 500.

Frequency of Responses: Reporting: On occasion.

Total Burden Hours: 600.

Animal and Plant Health Inspection Service

Title: Pine Shoot Beetle Host Material from Canada.

OMB Control Number: 0579-0257.

Summary of Collection: Under the Plant Protection Act (7 U.S.C. 7701-7772), the Secretary of Agriculture is authorized to prohibit or restrict the importation, entry, or movement of plants and plant pests to prevent the introduction of plant pests into the United States or their dissemination within the United States. The Animal Plant and Health Inspection Service (APHIS) have established restrictions on the importation of pine shoot beetle host material into the United States from Canada. Pine shoot beetle (PSB) is a pest of pine trees. It can cause damage in weak and dying trees where reproductive and immature stages of PSB occur, and in the new growth of healthy trees. PSB can damage urban ornamental trees and can cause economic losses to the timber, Christmas trees, and nursery industries.

Need and Use of the Information: APHIS will collect the information using Compliance Agreements, Written Statements, and Canadian Phytosanitary Certificates to protect the United States from the introduction of pine shoot beetle and other plant diseases.

Description of Respondents: Business or other for profit; Federal Government.

Number of Respondents: 2,340.

Frequency of Responses: Reporting: On occasion.

Total Burden Hours: 94.

Ruth Brown,
Departmental Information Collection Clearance Officer.

[FR Doc. 2011-20737 Filed 8-12-11; 8:45 am]

BILLING CODE 3410-34-P